DEPARTMENT OF HEALTH AND HUMAN SERVICES

42 CFR Part 83

Procedure for Designating Classes of Employees as Members of the Special Exposure Cohort Under the Energy Employees Occupational Illness Compensation Program Act of 2000

AGENCY: Department of Health and Human Services.

ACTION: Interim final rule; extension of comment period.

SUMMARY: The Department of Health and Human Services (DHHS) is extending the comment period for the interim final rule making amendments to procedures for designating classes of employees as members of the Special Exposure Cohort under the Energy Employees Occupational Illness Program Act (EEOICPA), which was published in the Federal Register on Thursday, December 22, 2005.

DATES: Any public written comments on the interim final rule published on December 22, 2005 (70 FR 75949) must be received on or before March 23, 2006.

ADDRESSES: Address written comments on the notice of proposed rulemaking to the NIOSH Docket Officer electronically by e-mail to: NIOCINDOCKET@CDC.GOV. Alternatively, submit printed comments to NIOSH Docket Office, Robert A. Taft Laboratories, MS-C34, 4676 Columbia Parkway, Cincinnati, OH 45226.

FOR FURTHER INFORMATION CONTACT: Larry Elliott, Director, Office of Compensation Analysis and Support, National Institute for Occupational Safety and Health, 4676 Columbia Parkway, MS-C-46, Cincinnati, Ohio 45226, Telephone 513-533-6800 (this is not a toll-free number). Information requests may also be submitted by e-mail to OCAS@CDC.GOV.

SUPPLEMENTARY INFORMATION: On December 22, 2005, HHS published an interim final rule with request for comments amending the procedures for designating classes of employees as members of the Special Exposure Cohort under EEOICPA, [See FR Vol. 70, No. 245, 75949]. The rule included a public comment period that was to end on February 21, 2006. On January 26, 2006, the Advisory Board on Radiation and Worker Health initiated its review of the interim final rule. The Board requested that the comment period be extended by 30 days, for a total of 90 days, to provide the Board with adequate time to complete its review and submit comments to HHS. HHS would appreciate the comments of the Board and is now providing for a 90-day comment period to accommodate the Board's request. This extension of the comment period may also assist any members of the public who require additional time to comment on the rule.

Dated: February 15, 2006.
Michael O. Leavitt,
Secretary.

[FR Doc. 06-1588 Filed 2-17-06; 8:45 am]

BILLING CODE 4163-18-P